NUCLEAR REGULATORY COMMISSION

[Docket No. 030-35160]

Environmental Assessment and Finding of No Significant Impact Related to Issuance of a License Amendment of U. S. Nuclear Regulatory Commission Byproduct Material License No. 45-25483-01; Richemont North America, Inc.

I. Summary

The U.S. Nuclear Regulatory Commission (NRC) is considering terminating Byproduct Material License No. 45-25483-01 to authorize the release of the licensee's facilities in Winchester, Virginia, for unrestricted use and has prepared an Environmental Assessment (EA) and Finding of No Significant Impact (FONSI) in support of this action.

The NRC has reviewed the results of the final survey of the Richemont North America facility in Winchester, Virginia. Richemont North America was authorized by the NRC from August 31, 1999, until the present to use manufactured watch dials and hands containing luminous paint activated with tritium for the manufacture and repair of timepieces. In 2002, Richemont North America ceased operations with licensed materials at the Winchester, Virginia site, and requested that the NRC terminate the license. Richemont North America has conducted surveys of the facility and determined that the facility meets the license termination criteria in Subpart E of 10 CFR part 20. The NRC staff has evaluated Richemont North America's request and the results of the surveys, performed a confirmatory survey, and has developed an EA in accordance with the requirements of 10 CFR part 51. Based on the staff evaluation, the conclusion of the EA is a Finding of No Significant Impact on human health and the environment for the proposed licensing action.

II. Environmental Assessment

Introduction

Richemont North America has requested release, for unrestricted use, of their building located at 202 North Loudoun Street, in Winchester, Virginia, as authorized for use by NRC License No. 45-25483-01. License No. 45-25483-01 was issued on August 31, 1999, and amended periodically since that time. NRC-licensed activities performed at the Winchester, Virginia site were limited to the repair, service and repair of returned timepieces and the receipt and application of timepiece self-luminous parts typically performed on bench tops. No outdoor areas were affected by the use of licensed materials. Licensed activities ceased completely in June 2002 and the licensee requested release of the facilities for unrestricted use. Based on the licensee's historical knowledge of the site and the condition of the facilities, the licensee determined that only routine decontamination activities, in accordance with licensee radiation safety procedures, were required. The licensee surveyed the facility and provided documentation that the facility meets the license termination criteria specified in subpart E of 10 CFR part 20, “Radiological Criteria for License Termination.”

The Proposed Action

The proposed action is to terminate NRC Radioactive Materials License No. 45-25483-01 and release the licensee's facilities at 202 North Loudoun Street in Winchester, Virginia, for unrestricted use. By letter dated September 30, 2002, Richemont North America provided survey results which demonstrate that the Winchester, Virginia facility is in compliance with the radiological criteria for license termination in subpart E of 10 CFR part 20, “Radiological Criteria for License Termination.”

Purpose and Need for the Proposed Action

The purpose of the proposed action is to release the building located at the 202 North Loudoun Street in Winchester, Virginia, for unrestricted use and to terminate the Richemont North America materials license. This will allow Richemont North America to stop leasing the building. The need for the proposed action is to comply with NRC regulations and the Timeliness Rule. NRC is fulfilling its responsibilities under the Atomic Energy Act to make a decision on a proposed license amendment for release of facilities for unrestricted use that ensures protection of the public health and safety and environment.

Alternatives to the Proposed Action

The only alternative to the proposed action of terminating the license and releasing the Winchester, Virginia facility for unrestricted use is no action. The no-action alternative is not acceptable because it will result in violation of NRC's Timeliness Rule (10 CFR 30.36), which requires licensees to decommission their facilities when licensed activities cease. The licensee does not plan to perform any activities with licensed materials at this location. Maintaining the areas under a license would also reduce options for future use of the property and require Richemont North America to continue leasing office space for which it has no use.

The Affected Environment and Environmental Impacts

Richemont North America leased office space in a Wachovia Bank building in downtown Winchester, Virginia. The building was of brick construction, the offices encompassed the second floor. The building is surrounded by other small business buildings.

The NRC staff has reviewed the surveys performed by Richemont North America to demonstrate compliance with the 10 CFR 20.1402 license termination criteria. Based on its review, the staff has determined that the affected environment and environmental impacts associated with the decommissioning of the Richemont North America facility are bounded by the impacts evaluated by the “Generic Environmental Impact Statement in Support of Rulemaking on Radiological Criteria for License Termination of NRC-Licensed Facilities” (NUREG-1496). The staff also finds that the proposed release for unrestricted use of the Richemont North America facility is in compliance with 10 CFR 20.1402, “Radiological Criteria for Unrestricted Use”. The NRC has found no other activities in the area that could result in cumulative impacts.

Agencies and Persons Contacted and Sources Used

This EA was prepared entirely by the NRC staff. The U.S. Fish and Wildlife Service was contacted for comment and responded by letter dated January 16, 2003, with no opposition to the action. The Virginia Department of Historic Resources was also contacted and had no comment.

Conclusion

Based on its review, the NRC staff has concluded that the proposed action complies with 10 CFR part 20. NRC has prepared this EA in support of the proposed license termination to release the Richemont North America facility located at 202 North Loudoun Street in Winchester, Virginia, for unrestricted use. On the basis of the EA, NRC has concluded that the environmental impacts from the proposed action are not expected to be significant and has determined that the preparation of an environmental impact statement for the proposed action is not required.

List of Preparers

Orysia Masnyk Bailey, Materials Licensing/Inspection Branch 1, Division of Nuclear Materials Safety, Health Physicist.

List of References

1. NRC License No. 45-25483-01 inspection and licensing records.

2. Richemont. “Request to terminate license” Letter from J. Brown to NRC dated September 30, 2003. (ML020870095)

3. Title 10 Code of Federal Regulations part 20, subpart E, “Radiological Criteria for License Termination.”

4. Federal Register notice, Volume 65, No. 114, page 37186, dated Tuesday, June 13, 2000, “Use of Screening Values to Demonstrate Compliance With The Federal Rule on Radiological Criteria for License Termination.”

5. U.S. Fish and Wildlife Service. “Richemont North America, Inc. Termination of Byproduct Materials License, #2806, Frederick County, Virginia,” Letter from K. Mayne to NRC dated January 16, 2003.

6. NRC. NRC Inspection Report No. 45-25483-01/02-01, dated November 26, 2002. (ML023300524)

7. NRC. NUREG-1757 “Consolidated NMSS Decommissioning Guidance,” Final Report dated September 2002.

8. NRC. NUREG-1496 “Generic Environmental Impact Statement in Support of Rulemaking on Radiological Criteria for License Termination of NRC-Licensed Nuclear Facilities,” Final Report dated July 1997.

III. Finding of No Significant Impact

Based upon the environmental assessment, the staff concludes that the proposed action will not have a significant impact on the quality of the human environment. Accordingly, the staff has determined that preparation of an environmental impact statement is not warranted.

IV. Further Information

The references listed above are available for public inspection and may also be copied for a fee at the NRC's Public Document Room, located at One White Flint North, 11555 Rockville Pike, Rockville, Maryland 20852. These documents are also available for public review through ADAMS, the NRC's electronic reading room, at: http://www.nrc.gov/reading-rm/adams.htlm.

Any questions with respect to this action should be referred to Orysia Masnyk Bailey, Materials Licensing/Inspection Branch 1, Division of Nuclear Materials Safety, U.S. Nuclear Regulatory Commission, Region II, Suite 23T85, 61 Forsyth Street, SW., Atlanta, Georgia 30303-8931. Telephone 404-562-4739.

Dated at Atlanta, Georgia the 7th day of July, 2003.
For the U.S. Nuclear Regulatory Commission.
Douglas M. Collins,
Director, Division of Nuclear Materials Safety, Region II.

[FR Doc. 03-18410 Filed 7-18-03; 8:45 am]

BILLING CODE 7590-01-P